DEPARTMENT OF LABOR

Employment and Training Administration

[TA-W-62,232]

Philips Lighting Company Lamps Division, Danville, KY; Notice of Affirmative Determination Regarding Application for Reconsideration

By application dated December 20, 2007, the United Steel, Paper and Forestry, Rubber, Manufacturing, Energy, Allied Industrial and Service workers International Union (the Union) requested administrative reconsideration of the Department's Notice of Negative Determination Regarding Eligibility to Apply for Worker Adjustment Assistance applicable to workers and former workers of the subject firm. The determination was issued on November 9, 2007. The Department's Notice of determination was published in the Federal Register on November 21, 2007 (72 FR 65607). The subject workers are engaged in the production of incandescent glass bulbs and glass ornaments. Workers are separately identifiable by product line.

The determination was based on the Department's findings that the subject firm did not shift production of incandescent glass bulbs or glass ornaments to a foreign country; the subject firm exports glass bulbs abroad for further processing; the subject firm does not import articles that are like or directly competitive with the glass bulbs produced by the subject firm; and the subject firm's major customers of glass ornaments did not purchase imports of glass ornaments during the relevant period.

In the request for reconsideration, the Union alleged that the subject firm is importing incandescent lamps with glass bulbs that are like or competitive with those produced at the Danville, Kentucky facility and that a major customer of the subject firm has replaced purchases of glass ornaments from the subject firm with imports. The Union's request for reconsideration included support documentation.

The Department has carefully reviewed the workers' request for reconsideration and has determined that the Department will conduct further investigation.

Conclusion

After careful review of the application, I conclude that the claim is of sufficient weight to justify reconsideration of the U.S. Department of Labor's prior decision. The application is, therefore, granted.

Signed at Washington, DC, this 2nd day of January 2008.
Elliott S. Kushner,
Certifying Officer, Division of Trade Adjustment Assistance.

[FR Doc. E8-288 Filed 1-10-08; 8:45 am]

BILLING CODE 4510-FN-P